DEPARTMENT OF LABOR

Mine Safety and Health Administration

Petitions for Modification

The following parties have filed petitions to modify the application of existing safety standards under section 101(c) of the Federal Mine Safety and Health Act of 1977.

1. Chestnut Coal Company

[Docket No. M-2005-019-C]

Chestnut Coal Company, RD 3, Box 142B, Sunbury, Pennsylvania 17801 has filed a petition to modify the application of 30 CFR 75.512-2 (Frequency of examinations) to its No. 10 Slope Mine (MSHA I.D. No. 36-07059) located in Northumberland County, Pennsylvania. The petitioner requests a modification of the existing standard to permit permissible electrical equipment to be examined once a month instead of weekly. The petitioner asserts that the proposed alternative method would provide at least the same measure of protection as the existing standard.

2. Chestnut Coal Company

[Docket No. M-2005-020-C]

Chestnut Coal Company, RD 3, Box 142B, Sunbury, Pennsylvania 17801 has filed a petition to modify the application of 30 CFR 75.311(b)(2) and (b)(3) (Main mine fan operation) to its No. 10 Slope Mine (MSHA I.D. No. 36-07059) located in Northumberland County, Pennsylvania. The petitioner requests a modification of the existing standard to permit the electrical circuits entering the underground mine to remain energized to the mine's pumps while the main fan is intentionally shut down during idle shifts when miners are not working underground. The petitioner proposes to de-energize the electrical circuits to the pumps and run the main mine fan for 30 minutes after the water from the mine has been removed and prior to entering the mine to conduct a pre-shift examination. The petitioner asserts that the proposed alternative method would provide at least the same measure of protection as the existing standard.

3. Six M Coal Company

[Docket No. M-2005-021-C]

Six M Coal Company, 482 High Road, Ashland, Pennsylvania 17921 has filed a petition to modify the application of 30 CFR 75.335 (Construction of seals) to its No. 1 Slope Mine (MSHA I.D. No. 36-09138) located in Dauphin County, Pennsylvania. Petitioner proposes constructing seals from wooden materials of moderate size and weight; designing the seals to withstand a static horizontal pressure in the range of 10 psi; and installing a sampling tube only in the monkey (higher elevation) seal. The petitioner asserts that because of the pitch of anthracite veins, concrete blocks are difficult to use and expose miners to safety hazards during transport. The petitioner cites the low level of explosibility of anthracite coal dust and the minimal potential for either an accumulation of methane in previously mined pitching veins or an ignition source in the gob area as justification for the proposed 10 psi design criterion. The petitioner asserts that the proposed alternative method would provide at least the same measure of protection as the existing standard.

4. Consolidation Coal Company

[Docket No. M-2005-022-C]

Consolidation Coal Company, 1800 Washington Road, Pittsburgh, Pennsylvania 15241 has filed a petition to modify the application of 30 CFR 75.503 (Permissible electric face equipment; maintenance) and 30 CFR 18.35 (Portable (trailing) cables and cords) to its Blacksville No. 2 Mine (MSHA I.D. No. 46-01968) located in Monongalia County, West Virginia. The petitioner requests a modification of the existing standard to permit the maximum length of trailing cables for supplying power to permissible equipment used in continuous mining section be increased to 1,000 feet. The petitioner asserts that the proposed alternative method would provide at least the same measure of protection as the existing standard.

5. Warrior Coal, LLC

[Docket No. M-2005-023-C]

Warrior Coal, LLC, 57 J.E. Ellis Road, Madisonville, Kentucky 42431 has filed a petition to modify the application of 30 CFR 75.1103-4(a) (Automatic fire sensor and warning device systems; installation; minimum requirements) to its Cardinal Mine (MSHA I.D. No. 15-17216) located in Hopkins County, Kentucky. The petitioner requests a modification of Section 2(a) of its previously granted petition, M-2004-034-C, to read as follows: “The carbon monoxide monitoring system shall be capable of providing both visual and audible signals. A visual or audible alert signal shall be activated when the carbon monoxide level at any sensor reaches 10 parts per million (ppm) above the ambient level for the mine. An audible and visual alarm signal distinguishable from the alert signal shall be activated when the carbon monoxide level at any sensor reaches 15 ppm above the ambient level for the mine. The District Manager is authorized to require lower alert and alarm levels.” The petitioner asserts that the proposed alternative method would provide at least the same measure of protection as the existing standard.

6. Ohio County Coal Company

[Docket No. M-2005-024-C]

Ohio County Coal Company, P.O. Box 39, Centertown, Kentucky 42328 has filed a petition to modify the application of 30 CFR 75.1101-1(b) (Deluge-type water spray systems) to its Big Run Mine (MSHA I.D. No. 15-18552) located in Ohio County, Kentucky. The petitioner proposes to train a person in the testing procedures specific to the deluge-type water spray fire suppression systems used at each belt drive to once a week conduct a visual examination of each deluge-type water spray fire suppression system; to conduct a functional test of the deluge-type water spray fire suppression systems by actuating the system and observing its performance; and finally, to record the results of the examination and functional test in a book maintained on the surface that would be made available to the authorized representative of the Secretary. The results of the examination and functional test will be retained at the mine for one year. The petitioner states that if any malfunction or clogged nozzle is detected as a result of the weekly examination or functional test, corrections will be made immediately. The petitioner further states that the procedure used to perform the functional test will be posted at or near each belt drive that uses a deluge-type water spray fire suppression system. The petitioner asserts that the proposed alternative method would provide at least the same measure of protection as the existing standard.

7. Tech Leasing & Rebuild, Inc.

[Docket No. M-2005-025-C]

Tech Leasing & Rebuild, Inc., R. Rt. 1, Box 48C, Pounding Mill, Virginia 24637 has filed a petition to modify the application of 30 CFR 75.1710-1(4) (Canopies or cabs; self-propelled diesel-powered and electric face equipment; installation requirements) to its Mine #1 (MSHA I.D. No. 44-06859) located in Tazewell County, Virginia. The Tech Leasing & Rebuild, Inc., Mine #1 is developing the War Creek coal seam located North of Rt. 628 on Indian Creek. The petitioner proposes to operate mobile face equipment without canopies or cabs when the mining height is 48 inches or less. The petitioner states that mining height at the Mine #1 averages between 37″ to 45″ with localized dips and elevation changes in the mine floor; and the mining height with the dips and changes in elevation have created conditions in which mining equipment with canopies and cabs have dislodged roof bolts and limits visibility for equipment operators. The petitioner asserts that application of the existing standard would result in a diminution of safety to the miners.

Request for Comments

Persons interested in these petitions are encouraged to submit comments via Federal eRulemaking Portal: http://www.regulations.gov; E-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before May 13, 2005. Copies of these petitions are available for inspection at that address.

Dated at Arlington, Virginia, this 6th day of April 2005.
Rebecca J. Smith,
Acting Director, Office of Standards, Regulations, and Variances.

[FR Doc. 05-7388 Filed 4-12-05; 8:45 am]

BILLING CODE 4510-43-P